DEPARTMENT OF HEALTH AND HUMAN SERVICES

Health Care Financing Administration

[HCFA-1140-N]

Medicare Program; Question and Answer Session on July 24, 2000 To Discuss Remaining Concerns About the Implementation of the Hospital Outpatient Prospective Payment System (PPS)

AGENCY: Health Care Financing Administration (HCFA), HHS.

ACTION: Notice of meeting.

SUMMARY: This notice announces a public meeting to provide an opportunity for hospital administrators, hospital industry representatives, hospital professionals, community mental health centers, home health agencies, comprehensive outpatient rehabilitation facilities, beneficiary advocates and other interested parties, to have pre-submitted questions and issues answered regarding remaining concerns they may have about the August, 2000 implementation of the hospital outpatient prospective payment system. Appropriate HCFA staff will be present to ensure that those questions and concerns will be answered.

DATES: The meeting is scheduled for July 24, 2000 from 9:30 a.m. until 4 p.m., E.D.T. The morning session (9:30 a.m. until 12) will be for hospital providers and the afternoon session (1:30 p.m. until 4 p.m.) will be for other providers; that is, community mental health centers (CMHCs, home health agencies (HHAs), and comprehensive outpatient rehabilitation facilities (CORFs).

ADDRESSES: The meeting will be held in the HCFA Central Office Main Auditorium, 7500 Security Boulevard, Baltimore, MD 21244.

FOR FURTHER INFORMATION CONTACT: Judy Hunt, (410) 786-7874 or Mary Loane, (410) 786-1405 (for registration information and pre-submitted questions).

SUPPLEMENTARY INFORMATION:

Background

On April 7, 2000 a final rule with comment period on the hospital outpatient prospective payment system (PPS) was published. This new PPS will go into effect for hospital outpatient services designated by the Secretary, certain Part B services furnished to hospital inpatients who have no Part A coverage, and partial hospitalization services furnished by community mental health centers. This outpatient PPS was enacted as part of the Balanced Budget Act of 1997. This meeting will provide a forum, for outpatient facilities, to receive answers to their pre-submitted questions and issues concerning the August, 2000, implementation of hospital outpatient PPS.

The format of the meeting will be a question and answer session. Appropriate HCFA staff will be present to ensure that questions and concerns will be answered.

During this session, major provider organizations are invited to give a brief pre-scheduled statement on the coming implementation of the outpatient PPS. Those organizations wishing to take advantage of this opportunity should submit their statement in writing to HCFA not less than 3 working days prior to this meeting and make copies available to attendees on the day of the conference.

While the meeting is open to the public, attendance is limited to space available. Individuals must register in advance as described below.

Registration

Individuals may register by following the directions soon to be posted on the HCFA website, www.hcfa.gov. Once individuals are on this website, they will need to highlight the red bullet, in the lower right hand corner, titled “Events, Meetings, and Workgroups.” Individuals should also submit questions they would like to have answered, no later than July 14, 2000, by following the directions soon to be posted on the same HCFA website, www.hcfa.gov. The registration site will link you to the site for submission of questions.

Each participant will be provided with a meeting agenda at the time of the meeting.

If individuals have questions regarding registration; would like to register by phone; or would like to submit questions regarding hospital outpatient PPS issue, they should contact Judy Hunt (410) 786-7874 or Mary Loane (410) 786-1405.

(Catalog of Federal Domestic Assistance Program No. 93.773 Medicare—Hospital Insurance Program; and No. 93.774, Medicare—Supplementary Medical Insurance Program)

Dated: June 30, 2000.
Nancy-Ann Min DeParle,
Administrator, Health Care Financing Administration.

[FR Doc. 00-17136 Filed 7-6-00; 8:45 am]

BILLING CODE 4120-01-P